DEPARTMENT OF ENERGY

Federal Energy Regulatory Commission

Notice of Commission Staff Attendance

The Federal Energy Regulatory Commission (Commission) hereby gives notice that members of the Commission's staff may attend the following meeting related to the transmission planning activities of the Northern Tier Transmission Group, whose members include NorthWestern Corporation, Deseret Generation & Transmission Cooperative, Inc., Portland General Electric Company, Idaho Power Company, PacifiCorp, and MATL LLP:

Northern Tier Transmission Group Quarter 8 Stakeholder Meeting

December 7, 2017 10:00 a.m.—1:45 p.m. (Mountain Standard Time)

The above-referenced meeting will be held at: UAMPS Offices, 155 N 400 West, Suite 480, Salt Lake City, UT 84103.

The above-referenced meeting is open to stakeholders.

Further information may be found at this link.

The discussions at the meeting described above may address matters at issue in the following proceeding:

Docket Nos. ER18-61-000, Portland General Electric Company

ER18-62-000, MATL LLP

ER18-63-000, Idaho Power Company

ER18-66-000, PacifiCorp

ER18-67-000, Portland General Electric Company

ER18-69-000, NorthWestern Corporation

ER18-72-000, Deseret Generation & Transmission Cooperative, Inc.

For more information, contact Navin Shekar (navin.shekar@ferc.gov, 202-502-6297), or Patricia Dalton (patricia.dalton@ferc.gov, 202-502-8044) at the Office of Energy Market Regulation, Federal Energy Regulatory Commission.

Dated: December 1, 2017.
Nathaniel J. Davis, Sr.,
Deputy Secretary.

[FR Doc. 2017-26395 Filed 12-6-17; 8:45 am]

BILLING CODE 6717-01-P